DEPARTMENT OF LABOR

[SGA 03-14]

Office of Disability Employment Policy; Center for Faith-Based and Community Initiatives; Intermediary Grants for Mentoring Youth With Disabilities

AGENCY: Office of Disability Employment Policy, Department of Labor.

ACTION: Notice of availability of funds; solicitation for grant applications (SGA).

This notice contains all of the necessary information and forms needed to apply for grant funding. (SGA 03-14).

SUMMARY: The U.S. Department of Labor (DOL), Office of Disability Employment Policy (ODEP), in collaboration with DOL's Center for Faith-Based and Community Initiatives (CFBCI or Center), announces the availability of approximately $450,000 to award three competitive grants funded up to $150,000 to eligible intermediary organizations that have demonstrated an ability to assist faith-based and community organizations, particularly smaller organizations, in promoting positive employment and transition outcomes for youth with disabilities through mentoring activities. The activities conducted must be consistent with effective practices and may include but are not limited to adult and peer mentoring, e-mentoring, tutoring, job-shadowing, service learning, leadership development, and youth development.

In achieving the grant purposes, the intermediary is expected to sub-award a substantial portion of its award to eligible local faith-based and community organizations. Grant funds may be used for activities that establish, implement, or support a mentoring program for youth with disabilities between the ages of 16 and 24, which may include:

1. Hiring of mentoring coordinators and support staff;

2. Recruitment, screening, and training of mentors;

3. Recruitment and assessment of mentees;

4. Reimbursement to schools, if appropriate, for the use of school materials or supplies to be used in carrying out the mentoring program;

5. Purchase of materials or supplies to be used in carrying out the mentoring program;

6. Dissemination of outreach materials; and

7. Evaluation of the mentoring program using scientifically-based methods.

These grants are for a one-year period at full funding and may be renewed for a period of up to four additional years depending upon the availability of funds and the efficacy of the project activities. See also Parts IV, IX.

The results of this initiative will support ODEP's strategic goals of: (1) Promoting policies to increase demand for employees with disabilities; and (2) promoting policies to increase the capabilities of the workforce development system to provide meaningful and effective services to youth with disabilities.

DATES: Applications will be accepted commencing on June 16, 2003. The closing date for receipt of applications under this announcement is July 28, 2003. Applications must be received by 4:45 p.m. (ET) at the address below. No exceptions to the mailing and hand-delivery conditions set forth in this notice will be granted. Applications that do not meet the conditions set forth in this notice will be considered non-responsive.

ADDRESSES: Applications shall be mailed to: U.S. Department of Labor, Procurement Services Center, Attention: Cassandra Willis, Reference SGA 03-14, Room N-5416, 200 Constitution Avenue, NW., Washington, DC 20210. Telefascimile (FAX) applications will not be accepted. Applicants are advised that mail delivery in the Washington area may be delayed due to mail decontamination procedures.

FOR FURTHER INFORMATION CONTACT: Cassandra Willis, U.S. Department of Labor, Procurement Services Center, telephone (202) 693-4570 (this is not a toll-free number), prior to the closing deadline. Persons who are deaf or hard of hearing may contact DOL via the Federal Relay Service, (800) 877-8339. This announcement will also be published on the Internet on ODEP's online Home Page at: http://www2.dol.gov/odep. Award notifications will also be published on the ODEP Homepage.

SUPPLEMENTARY INFORMATION:

Part I. Delivery of Applications

1. Late Applications. Any application received after the exact date and time specified for receipt at the office designated in this notice will be considered non-responsive, unless it is received before awards are made and it: (a) Is determined that its late receipt was caused by DOL error; (b) was sent by U.S. Postal Service registered or certified mail not later than the fifth calendar day before the date specified for receipt of applications (e.g., an application submitted in response to a solicitation requiring receipt of applications by the 20th of the month must have been post marked by the 15th of that month); or (c) was sent by the U.S. Postal Service Express Mail Next Day Service to addressee not later than 5 p.m. at the place of mailing two working days prior to the date specified for receipt of applications. The term “working days” excludes weekends and Federal holidays. “Post marked” means a printed, stamped or otherwise placed impression (exclusive of a postage meter machine impression) that is readily identifiable, without further action, as having been supplied or affixed on the date of mailing by an employee of the U.S. Postal Service.

2. Withdrawal of Applications. Applications may be withdrawn by written notice or telegram (including mail gram) received at any time before an award is made. Applications may be withdrawn in person by the applicant or by an authorized representative thereof, if the representative's identity is made known and the representative signs a receipt of the proposal.

3. Hand-Delivered Proposals. It is preferred that applications be mailed at least five days prior to the closing date. To be considered for funding, hand-delivered applications must be received by 4:45 p.m., ET, at the specified address. Failure to adhere to the above instructions will be basis for a determination of non-responsiveness. Overnight express mail from carriers other than the U.S. Postal Service will be considered hand-delivered applications and must be received by the above specified date and time.

Part II. Authority

Omnibus Appropriations Resolution, 2003, Pub. L. 1087; Consolidated Appropriations Act, 2001, Pub. L. 106-554, 29 U.S.C. 557b.

Part III. Background

ODEP's mission is to provide leadership to increase employment opportunities for adults and youth with disabilities through expanded access to training, education, employment supports, assistive technology, integrated employment, entrepreneurial development, and small business opportunities. Through partnerships with both public and private sector employers and with regional and local agencies, ODEP also fosters the creation of employment opportunities by increasing awareness of the benefits of employing people with disabilities and disseminating information on effective employment strategies.

The CFBCI seeks to create effective partnerships between faith-based and community-based organizations and DOL at the Federal, state, and local levels. The purpose of these partnerships is to bring faith-based and community organizations, which are often in closest touch with the people and problems that are the focus of Federal social policy efforts, into DOL's employment and training programs.

The CFBCI coordinates a comprehensive departmental effort to incorporate faith-based and other community-based organizations into DOL programs and initiatives. CFBCI supports the creation of initiatives and programs within DOL that utilize the strengths of faith-based and community organizations to better address the needs of underprivileged populations. The Center directs national outreach efforts to educate faith-based and other community organizations about the opportunities for partnership with local One-Stop Career Centers, State and Local Workforce Investment Boards, State Workforce Agencies, and the U.S. Department of Labor. CFBCI also works in conjunction with DOL agencies to remove barriers to the participation of faith-based and community organizations in Federal programs, including, but not limited to, the reform of regulations, procurement and other internal policies and practices, and outreach activities.

This SGA reflects a collaborative effort between ODEP and CFBCI born out of their commitment to promoting positive employment and transition outcomes for youth with disabilities through mentoring. There is solid evidence that effective mentoring programs can change the direction of the life of a youth with a disability, improve academic performance, and help the youth develop skills, knowledge, and motivation to successfully transition from high school to adult life. (Moccia, Schumaker, Hazel, Vernon, & Deshler, 1989; Rhodes, Grossman, & Resch, 2000). Accordingly, this grant program supports the objectives of both President Bush's New Freedom Initiative and the Leave No Child Behind Act of 2001, Pub. L.107-110.

Mentoring is defined generally as a sustained, close, developmental relationship between an older, more experienced individual and a younger person with the goal of building character and promoting positive, healthy youth development. In mentoring arrangements, adults or experienced peers serve as advisors and role models, working with youth one-on one or in groups. Electronic mentoring, also called e-mentoring, uses a combination of e-mail and face-to-face meetings to facilitate mentoring relationships between young people and adults. Mentoring relationships provide valuable support to youth, not only in offering academic and career guidance, but also in building leadership and interpersonal skills and problem-solving skills. Mentoring can also connect youth with important employer contacts, thereby opening doors for networking and future employment.

The purpose of this grant program is to help build the capacity and knowledge of faith-based and community organizations to better meet the needs of young people with disabilities through mentoring. This will be accomplished through the funding of intermediary organizations that have demonstrated expertise in working with and providing technical assistance to local faith-based and community organizations in a variety of areas including, but not limited to: effectively operating and managing their programs; accessing governmental and private funding sources; developing and training staff; expanding the types and reach of services in their communities; and replicating promising and effective practices. The funded intermediary will also issue sub-awards to local faith-based and community organizations for start-up, operations, or expansion of mentoring programs for youth with disabilities as detailed previously in the Summary Section of this SGA.

This SGA is for the Intermediary Grants for Mentoring Youth with Disabilities Initiative. This grant program is consistent with the objectives of the President's New Freedom Initiative.

Part IV. Funding Availability and Period of Performance

ODEP anticipates awarding three competitive grants funded up to $150,000 each year to eligible intermediary organizations that have demonstrated an ability to assist faith-based and community organizations, particularly smaller organizations, in promoting positive employment and transition outcomes for youth with disabilities through mentoring activities. The period of performance will be one year from the date of execution of the grant documents by DOL. ODEP may elect to extend these grants on a yearly basis for up to four additional years based on the availability of government funds and acceptable performance.

Part V. Eligible Applicants and Required Partnerships

Eligible Applicants: Under this competition, eligible “intermediaries” are defined as non-profit, community, and/or faith-based organizations with existing connections within the community, and a demonstrated ability to connect smaller faith and community-based organizations and the people they serve to youth services funded under the Workforce Investment Act of 1998 (Public Law 105-220, 29 U.S.C. 2801 et seq.) (WIA) and to other youth services available in their local communities. These intermediary organizations must possess strong financial and grant management skills, and the ability to mentor smaller organizations to increase their capacity to fully participate in the youth service delivery provider network.

Partnerships: Applicants must establish strong linkages with the Local Workforce Investment Board (WIB) in the area to be served by the activities of the grant. The Local WIB can assist the intermediary in connecting to the One-Stop system and other community-based youth service providers receiving WIA funding. It is ODEP's belief that the intermediary and its sub-awardees can complement, augment, and supplement the services currently provided through WIA, and leverage WIA funded resources to assist them in carrying out some of their grant activities, e.g., recruitment of youth with disabilities.

Grant recipients will broker partnerships with employers, the workforce development system, school systems, disability service providers, non-profit organizations, and other faith-based and community organizations to provide mentoring experiences for youth with disabilities. Among other partners, grantees will be required to collaborate with employer organizations such as the Chamber of Commerce and the state Business Leadership Network where one exists. In addition, grantees will be required to utilize broad strategies for recruiting adult and peer mentors, including outreach to other faith-based and community organizations, employer organizations and employers, and organizations representing youth with disabilities such as centers for independent living, the state's Youth Leadership Forum, and state members of the National Youth Leadership Network. In addition, applicants are to work in partnership with other disability-related public and private organizations. Partners may include:

• State/local public agencies such as Special Education;

• Vocational Rehabilitation;

• State Councils for Independent Living;

• Local Centers for Independent Living (CILs);

• State mental health agencies, state mental retardation and Developmental Disability Councils;

• Temporary Assistance for Needy Families (TANF) agencies; and

• Private, non-profit organizations such as disability advocacy and provider organizations, as well as federally funded disability grant entities, including faith-based entities.

Eligible Sub-Awardees and Allowable Activities

For purposes of this announcement, the intermediary may issue sub-awards to community or faith-based organizations that:

1. Have social services as a major part of their mission;

2. Are headquartered in the local community to which they provide these services;

3. Have a total annual operating budget of $300,000 or less, or

4. Have 6 or fewer full-time equivalent employees.

Except as specifically provided, DOL/ODEP's acceptance of a proposal and an award of Federal funds to sponsor any programs(s) does not provide a waiver of any grant requirement and/or procedures. For example, the OMB circulars require that an entity's procurement procedures must require that all procurement transactions be conducted, as practical, to provide open and free competition. These circulars are applicable to awards made by the intermediary to sub-awardees under the terms of this grant solicitation. If a proposal identifies a specific entity to provide the services, the DOL/ODEP's award does not provide the justification or basis to sole-source the procurement, i.e., avoid competition.

The “$300,000 or less” budget includes only that portion of an organization's budget allocated to providing social services. It does not include other portions of the budget such as salaries and expenses. For purposes of this announcement local affiliates of national social service organizations are not eligible for a sub-grant award.

Legal Rules That Apply to Faith-Based Organizations That Receive Government Funds

The government is prohibited from directly funding religious activity.¹ These grants may not be used for religious instruction, worship, prayer, proselytizing or other inherently religious practices. Neutral, secular criteria that neither favor nor disfavor religion must be employed in the selection of grant and sub-grant recipients.

¹ The term “direct” funding is used to described funds that are provided “directly” by a governmental entity or an intermediate organization with the same duties as a governmental entity, as opposed to funds that an organization receives as the result of the genuine and independent private choice of a beneficiary. In other contexts, the term “direct” funding may be used to refer to those funds that an organization receives directly from the Federal government (also known as “discretionary” funding), as opposed to funding that it receives from a State or local government (also known as “indirect” or “block grant” funding). In this SGA, the term “direct” has the former meaning.

Nonetheless, participation by faith-based organizations in this grant program is highly encouraged. Consistent with the Free Exercise Clause and the Free Speech Clause of the Constitution, faith-based organizations are eligible to compete for Federal financial assistance used to support social service programs and to participate fully in the social service programs supported with Federal financial assistance without impairing their independence, autonomy, expression, or religious character. See Equal Protection of the Laws for Faith-based and Community Organizations, Exec. Order No. 13279 (December 12, 2002).

Part VI. Format Requirements for Grant Application

General Requirements: Applicants must submit one (1) paper copy with an original signature and two (2) additional paper copies of the signed proposal. To aid with the review of applications, DOL also encourages Applicants to submit an electronic copy of their proposal on a disc or CD using Microsoft Word. Applicants who do not provide an electronic copy will not be penalized. The Application Narrative must be double-spaced with standard margins on 8½ x 11 papers, and be presented on single-sided, numbered pages with the exception of format requirements for the Executive Summary. The Executive Summary must be limited to no more than two single-spaced, single-sided pages on 8½ x 11 papers with standard margins throughout. A font size of at least twelve (12) pitch is required throughout. Applications that fail to meet these requirements will be considered non-responsive.

The three required sections of the application are:

Section I—Project Financial Plan

Section II—Executive Summary—Project Synopsis

Section III—Project Narrative (including Attachments, not to exceed 15 pages)

Mandatory requirements for each section are provided below. Applications that fail to meet the stated mandatory requirements of each section will be considered non-responsive.

Mandatory Application Requirements

• Section I. Project Financial Plan (Budget) (The Project Financial Plan will not count against the application page limits.) Section I of the application must include the following three required parts:

(1) Completed “SF 424—Application for Federal Assistance” (See Appendix A of this SGA for required form)

(2) Completed “SF-424A—Budget Information Form” by line item for all costs required to implement the project design effectively. (See Appendix B of this SGA for required forms.)

(3) Budget Narrative and Justification that provides sufficient information to support the reasonableness of the costs included in the budget in relation to the service strategy and planned outcomes.

The application must include one SF-424 with the original signatures of the legal entity applying for grant funding and 2 additional copies. Applicants shall indicate on the SF-424 the organization's IRS Status, if applicable. Under the Lobbying Disclosure Act of 1995, Section 18 (29 U.S.C. 1611), an organization described in Section 501(c)(4) of the Internal Revenue Code of 1986 that engages in lobbying activities will not be eligible for the receipt of Federal funds constituting an award, grant, or loan. (See 2 U.S.C. 1611; 26 U.S.C. 501(c)(4).) For item 10 of the SF-424, the Catalog of Federal Domestic Assistance (CFDA) number for the program is 17.720.

The Budget Narrative and Justification must describe all costs associated with implementing the project that are to be covered with grant funds. Grantees must support the travel and associated costs with sending at least one representative to the annual ODEP Policy Conference for Grantees, to be held in Washington, DC, at a time and place to be determined. Grantees must comply with the “Uniform Administrative Requirements for Grants and Cooperative Agreements to State and Local Governments,” (also known as the “Common Rule”) codified at 29 CFR part 97, and must comply with the applicable OMB cost principles circulars, as identified in 29 CFR 95.27 and 29 CFR 97.22(b).

In addition, the budget must include on a separate page a detailed cost analysis of each line item. Justification for administrative costs must be provided. Approval of a budget by DOL is not the same as the approval of actual costs. The individual signing the SF 424 on behalf of the applicant must represent and be able to legally bind the responsible financial and administrative entity for a grant should that application result in an award. The applicant must also include the Assurances and Certifications Signature Page (Appendix C).

• Section II. Executive Summary—Project Synopsis (The Executive Summary is limited to no more than two single-spaced, single-sided pages on 8½ x 11 papers with standard margins throughout). Each application shall include a project synopsis that identifies the following:

(1) The name of the applicant;

(2) The type of organization the applicant represents, the additional consortium partners and the type of organization they represent;

(3) The amount of funds requested;

(4) The planned period of performance;

(5) An overview of the applicant's plan for building the capacity and knowledge of faith-based and community organizations to better meet the needs of young people with disabilities through mentoring; and

(6) An overview of the applicant's plan for sustaining grant activities being conducted by sub-awardees once Federal funding ceases.

• Section III. Project Narrative (The Project Narrative plus attachments are limited to no more than fifteen (15) single-sided, numbered 8½ x 11 inch pages, double-spaced with standard one-inch margins (top, bottom, and sides)). All text in the application narrative, including titles, headings, footnotes, quotations, and captions, as well as all text in charts, tables, figures, and graphs must be double-spaced (no more than three lines per vertical inch); and, if using a proportional computer font, use no smaller than a 12-point font, and an average character density no greater than 18 characters per inch (if using a non-proportional font or a typewriter, do not use more than 12 characters per inch). Applications that fail to meet these requirements will be considered non-responsive.

Note: The Financial Plan, the Executive Summary, and the Appendices are not included in the fifteen (15)-page limit]. The substantive requirements for the project narrative are described below under Part VII—Statement of Work.

Part VII. Government Requirements/Statement of Work (Project Narrative)

The Project Narrative, or Section III of the grant application represents the applicant's plans to address the previously documented unmet need to provide mentoring services to young people with disabilities in the community. ODEP expects that the intermediary and its sub-awardees will complement, augment, supplement, and leverage services currently provided through the WIA-assisted youth service delivery system in carrying out grant activities.

The intermediary will assist the sub-awardees, as appropriate, in administrative tasks so that sub-awardees can focus primarily on providing mentoring services to their service population(s). ODEP expects that the intermediary's staff will provide mentoring and technical assistance to build the smaller organizations' capacity to be permanent contributors to the youth service provider network and to compete successfully for future Federal, state and local grants.

The Project Narrative/Statement of Work must include and will be weighed as follows:

1. The applicant's Performance History with Grants Management and Service to People with Disabilities (20 points);

2. A description of the proposed plan and activities of the intermediary and its sub-awardees (45 points); and

3. An enumeration of evaluation criteria, measure(s), outcomes and reporting and tracking mechanisms for both intermediary and sub-awardees (35 points).

Letters of Commitment: Applicants can include letters of support if they provide specific commitments. Such letters can increase an applicant's score under criterion 2 by showing that the commitments in the text of the proposal are serious. Form letters will not be considered.

1. Performance History With Grants Management and Service to People With Disabilities (20 points)

The applicant must provide a statement of its performance history with the management of resources under governmental grants-in-aid programs. DOL will evaluate applications based on the scope, strength, and “record of achievement” which will be demonstrated by responses to the following requirements:

(1) Relevant history of the applicant in managing resources through grant awards from Federal Departments (particularly those from the Departments of Labor, Education, Housing and Urban Development, and Health and Human Services), state governments, or units of local governments;

(2) Recent involvement of the intermediary as a partner or provider in the One-Stop delivery system for employment and training services. Describe any current working relationship with the local Workforce Investment Board(s) or steps taken to develop this relationship for the current grant application

(3) Demonstrated history of networking with, educating, training, and mobilizing faith-based and community organizations and their members. (Note: Include past experience in developing other organizations' capacity for social service delivery, managing grants, conducting information campaigns, and providing technical assistance); and

(4) Demonstrated experience in networking with and providing services to people with disabilities.

In evaluating the quality of the applicant's performance history and management of resources, ODEP may consider the applicant's experience, knowledge and staff skills relevant to addressing the goals of this SGA in the context of ODEP's priorities.

2. Description of the Proposed Plan and Activities of the Intermediary and Its Sub-Awardees (45 points)

This section of the narrative should provide the applicant's detailed strategy for increasing the capacity and capability of faith-based and community organizations to provide effective mentoring services to young people with disabilities. The work plan must clearly illustrate how the project will be completed, and identify what services will be delivered. The narrative should explain the scope of the proposed project, and detail how the project will be carried out. The sections that should be included in the narrative for this section include:

• A Timeline

• A Description of the Mentoring Activities to be Conducted and the Respective Roles and Responsibilities of Community and Faith-Based Organizations and the Grantee.

• A Description of the Approach That Will Be Used for Seeking Applications From and Making Sub-awards to Community and Faith-Based Organizations.

• A Strategy for Coordinating Grant Activities with WIA-Assisted Youth Activities, the One-Stop Center(s), and Other Federal Disability-Related Grant Activities.

• A Strategy for Conducting Outreach to Employers and to the Disability Community.

• A Strategy for Leveraging Available Funding Sources to Support Grant Activities and Plan for Ensuring Sustainability Once Federal Funding Ceases.

• A Plan for Working with Sub-awardees to Develop Outcome Measures and to Evaluate the Activities Supported by the Sub-awards Made with Federal Funds Under This Announcement.

The Timeline

The applicant must provide a timeline for all discrete projects and activities to be undertaken.

A Description of the Mentoring Activities To Be Conducted and the Respective Roles and Responsibilities of Community and Faith-Based Organizations and the Grantee

This section of the narrative should provide the following information:

(1) A description of how the applicant will work with community and faith-based partner organizations in carrying out grant-related mentoring activities, including those activities that will be solicited through sub-awards. The specific functions/roles and responsibilities of these partner organizations within the grant design should be included as well as an explanation of the types of administrative and management functions which will be performed by the grantee.

(2) The young people expected to be served by the mentoring program, how they will be recruited, and the benefits or results expected;

(3) The method that will be used to recruit, screen, and train prospective mentors and to match mentors with mentees;

(4) An explanation of how technology will be used in carrying out grant activities; and

(5) A listing of key positions required to carry out the project as proposed, the key individuals proposed to fill the positions, and a detailed description of the kind of work these individuals will perform within the project. The application should provide evidence of the staffs' skill, knowledge, and experience in carrying out these types of activities, and describe their relevant training.

A Description of the Approach That Will Be Used for Seeking Applications From and Making Sub-Awards to Community and Faith-Based Organizations

In this section, the applicant should provide a description of the outreach activities it will engage in to identify potential faith and community-based organizations to act as partners in carrying out grant activities and the methodology that will be used for making sub-awards.

Strategy for Coordinating Grant Activities with WIA-Assisted Youth Activities, the One-Stop Center(s), and Other Federal Disability-Related Grant Activities

In this section, the applicant should explain how grant activities will be coordinated with the local One-Stop Center and other WIA-assisted youth activities in the target area(s) and with other disability related grant initiatives from DOL, the Department of Education (ED), the Department of Health & Human Services (HHS), the Social Security Administration (SSA), the Department of Housing & Urban Development (HUD), and other Federal partners.

Strategy for Conducting Outreach to Employers and to the Disability Community

In this section, the applicant should identify the strategy that will be used in developing relationships with and the support of area employers and the disability community, and explain how the views and perspectives of these partners were taken into account in developing this grant proposal.

Plan for Working With Sub-Awardees To Develop Outcome Measures and To Evaluate the Activities Supported by the Sub-Awards Made With Federal Funds Under This Announcement

In this section, the applicant should describe how it will work with sub-awardees to develop outcome measures and to evaluate grant-related activities conducted as a result of sub-awards.

Strategy for Leveraging Available Funding Sources To Support Grant Activities and Plan for Ensuring Sustainability Once Federal Funding Ceases

In this section of the narrative, the applicant should identify additional Federal, state, and/or local funds and resources that will be used to support the overall objectives of the grant, and articulate a plan for ensuring the sustainability of grant activities being performed by sub-awardees once Federal funding ceases. ODEP will evaluate the proposed plan and activities against the following criteria:

(a) The extent to which the outreach and identification of organizations eligible for sub-grant awards appears appropriate, reasonable and achievable within the initial months of the grant period;

(b) The extent to which the application process that will be used in making sub-awards is straightforward, fiscally responsible, and not overly burdensome;

(c) The extent to which the proposed plan is likely to produce positive transition outcomes for young people with disabilities;

(d) The extent to which partnerships with outside entities and funding from additional Federal, state and/or local resources will be effectively leveraged and utilized in carrying out grant activities;

(e) The demonstrated capability of the applicant to effectively implement the proposed project;

(f) The quality of the plan for ensuring sustainability of grant activities being performed by sub-awardees once Federal funding ceases;

(g) The extent to which employers and the education, workforce, and disability communities have actively participated or will participate in the design and implementation of the proposed project;

(h) The qualifications, including relevant training and experiences of key project personnel;

(i) The quality of the plan to recruit mentors and mentees;

(j) The quality of the training that will be provided to mentors; and

(k) The quality of the mechanism that will be used to match youth with mentors.

3. Review Process and Evaluation Criteria, Measure(s), Outcomes and Reporting/Tracking Mechanisms for Both Intermediary and Sub-awardees (35 points)

This section of the narrative should summarize the intermediary's evaluation criteria to thoughtfully examine progress towards project goals and objectives.

Through this grant ODEP and CFBCI seek the following objectives:

• A positive measurable impact on transition outcomes of young people with disabilities in those target areas who receive grant-related mentoring services.

• A significant increase in the number of faith-based and community organizations capable of providing quality mentoring services to young people with disabilities and capable of effectively sustaining mentoring programs for youth with disabilities through a variety of funding sources (e.g., Federal; state; local governments, private charitable organizations and foundations); and

The narrative should specifically and carefully define how the intermediary and its sub-awardees will determine success consistent with the above objectives for all the proposed activities. The narrative should identify an overall goal as to the number of mentees to be served under the grant, and should identify the positive transition outcomes expected. Positive transition outcomes may include placement and retention in employment, completion of educational certification, graduation, skills attainment, enrollment in post-secondary education, etc. In addition, the applicant should provide an explanation as to how the applicant will work with its sub-awardees to establish interim goals necessary to meet the aforementioned goal and objectives. This section of the narrative should also address the “methods of evaluation” that will be used by the intermediary to determine the success of the technical assistance efforts provided to the intermediary's sub-awardees (including program development) as well as the success of the mentoring efforts. In addition, this section of the narrative should outline the strategy for documenting and reporting the activities undertaken during the life of the grant for ODEP and CFBCI's future use in working with other intermediaries.

ODEP will evaluate the narrative against the following criteria to determine whether the goals and objectives, and the plans and procedures proposed for achieving them, are innovative, worthwhile, and realistic.

(a) Do the objectives reflect the measurable outcomes of the proposed work? (Note: The objectives must be tangible, specific, concrete, measurable, and achievable over the life of the grant.)

(b) Are the methods and activities to achieve the objectives adequately described? (Note: These should be consistent with the timeline required in criterion 2, and present the order and the date of completion (month or quarter) for the accomplishment of the intermediary and sub-awardees' tasks.)

(c) How will the planned work lead to the outcomes anticipated during the life of the grant? Are the tasks that will be accomplished with the available resources thoroughly and cogently outlined? (Note: Early in the planning process, applicants should list the tasks that will have to be completed to meet the goals of the project. They can then break these into smaller tasks and lay them out in a schedule over the grant time period. This will provide a chance to consider what personnel, materials, and other resources will be needed to carry out the tasks.)

(d) Is there evidence presented that the accomplishments and structures established during the period of grant performance can be sustained beyond the life of the grant?

Part VIII. Monitoring and Reporting

Monitoring: ODEP is responsible for ensuring the effective implementation of each competitive grant project in accordance with the provisions of this announcement and the terms of the grant award document. The Department staff, or their designees may conduct on-site project reviews periodically. Reviews will focus on timely project implementation, performance in meeting the grant's programmatic goals and objectives, expenditure of grant funds on allowable activities, integration and coordination with other resources and service providers in the local area, and project management and administration in achieving project objectives.

Reporting: Grantees will be required to submit quarterly financial and narrative progress reports as prescribed by OMB Circular A-102 and A-110, as codified by 29 CFR parts 97 and 95 respectively.

(1) A Quarterly Report will be required within thirty (30) days of the end of each quarter beginning ninety days from the award of the grant and is estimated to take five hours to prepare on average. The form for the Quarterly Report will be provided by ODEP. ODEP will work with the grantee to help refine the requirements of the report, which will, among other things, include measures of ongoing analysis for continuous improvement and customer satisfaction.

(2) Financial reporting will be required quarterly using the on-line electronic reporting system for the Standard Form 269—Financial Status Report (FSR).

(3) A Final Project Report, including an assessment of project performance and outcomes achieved will be required and is estimated to take twenty hours to complete. This report will be submitted in hard copy and on electronic disk using a format and following instructions that will be provided by ODEP. A draft of the final report is due to the ODEP thirty (30) days before the termination of the grant. The final report is due to ODEP sixty (60) days following the termination of the grant.

ODEP may arrange for and conduct an independent evaluation of the outcomes, impacts, and accomplishments of each funded project. Grantees must agree to make available records on all parts of project activity, including participant post secondary and employment data, and to provide access to personnel, as specified by the evaluator(s), under the direction of ODEP. This independent evaluation is separate from the ongoing evaluation for continuous improvement required of the grantee for project implementation. Grantees must agree to collaborate with other research institutes, centers, studies, and evaluations that are supported by DOL and other relevant Federal agencies, as appropriate. Finally, Grantees must agree to actively utilize the programs sponsored by the ODEP, including the Job Accommodation Network, (http://www.jan.wvu.edu), and the Employer Assistance Referral Network (http://www.earnworks.com).

Part IX. Review Process and Evaluation Criteria

All applications will be reviewed for compliance with the requirements of this notice. ODEP, CFBCI and other Federal agency staff are expected to serve on the technical panel(s) that will review all applications against the criteria listed below. ODEP also may utilize representatives from faith-based and community organizations and others with policy expertise with faith-based and community initiatives that have no relation to grant applicants to broaden the perspective of review panels. The panel recommendations are advisory in nature and not binding on the Grant Officer. The grant officer will fully consider the panel recommendations, but take into account other factors to ensure the most advantageous award of these funds to accomplish the system-building purposes outlined in the Summary and Statement of Work. The grant officer may consider any information that comes to his or her attention and may elect to award grants either with or without discussion with the applicant. In situations without discussions, an award will be based on the applicant's signature on the SF 424, which constitutes a binding offer. The Grant Officer will make final award decisions based on what is most advantageous to the Government, considering factors such as:

Panel findings;

Geographic distribution of the competitive applications; and

Availability of funds.

X. Administration Provisions

A. Administrative Standards and Provisions

Grantees are strongly encouraged to read these regulations before submitting a proposal. The grants awarded under this SGA shall be subject to the following as applicable:

• 29 CFR Part 95—Grants and Agreements With Institutions of Higher Education, Hospitals, and Other Non-Profit Organizations, and With Commercial Organizations, Foreign Governments, Organizations Under the Jurisdiction of Foreign Governments, and International Organizations;

• 29 CFR Part 96—Audit Requirements for Grants, Contracts, and Other Agreements.

• 29 CFR Part 97—Uniform Administrative Requirement for Grants and Cooperative Agreements to State and Local Governments.

B. Allowable Costs

Determinations of allowable costs shall be made in accordance with the following applicable Federal cost principles:

• State and Local Government—OMB Circular A-87

• Nonprofit Organizations—OMB Circular A-122

• Profit-Making Commercial Firms—48 CFR part 31

Profit will not be considered an allowable cost in any case.

C. Grant Assurances

As a condition of the award, the applicant must certify that it will comply fully with the nondiscrimination and equal opportunity provisions of the following laws:

• 29 CFR Part 31—Nondiscrimination in Federally-assisted programs of the Department of Labor, effectuation of Title VI of the Civil Rights Act of 1964.

• 29 CFR Part 32—Nondiscrimination on the Basis of Disability in Programs and Activities Receiving or Benefiting from Federal Assistance. (Implementing section 504 of the Rehabilitation Act, 29 U.S.C. 794)

• 29 CFR Part 36—Nondiscrimination on the Basis of Sex in Education Programs or Activities Receiving Federal Financial Assistance. (Implementing title IX of the Education Amendments of 1972, 20 U.S.C. 1681 et. seq.)

• 29 CFR Part 37—Nondiscrimination and Equal Opportunity Provisions of the Workforce Investment Act of 1998 (WIA), (Implementing Section 188 of the Workforce Investment Act, 29 U.S.C. 2938).

The applicant must include assurances and certifications that it will comply with these laws in its grant application. The assurances and certifications are attached as Appendix C.

Signed at Washington, DC, this 10th day of June, 2003.
Lawrence J. Kuss,
Grant Officer.

Appendix A. Application for Federal Assistance, Form SF 424

Appendix B. Budget Information Sheet, Form SF 424A

Appendix C. Assurances and Certifications Signature Page

Appendix D. Survey on Ensuring Equal Opportunity

BILLING CODE 4910-13-M

[FR Doc. 03-15114 Filed 6-13-03; 8:45 am]

BILLING CODE 4510-CX-C